DEPARTMENT OF ENERGY

Federal Energy Regulatory Commission

Combined Notice of Filings #1

Take notice that the Commission received the following electric rate filings:

Docket Numbers: ER23-1851-008.

Applicants: PJM Interconnection, L.L.C.

Description: Tariff Amendment: Second Status Report—Amended ISA-CSA, SA Nos. 6917-6918; Queue No. AD1-031 to be effective 10/26/2023.

Filed Date: 7/15/24.

Accession Number: 20240715-5106.

Comment Date: 5 p.m. ET 8/5/24.

Docket Numbers: ER24-2052-001.

Applicants: Southwest Power Pool, Inc.

Description: Tariff Amendment: 4225 Algodon Solar Energy & SPS Facilities Service Agr to be effective 7/16/2024.

Filed Date: 7/15/24.

Accession Number: 20240715-5083.

Comment Date: 5 p.m. ET 8/5/24.

Docket Numbers: ER24-2518-000.

Applicants: PJM Interconnection, L.L.C.

Description: Tariff Amendment: Notice of Cancellation of ISA, SA No. 4395; Queue No. AA1-092 to be effective 7/19/2024.

Filed Date: 7/15/24.

Accession Number: 20240715-5045.

Comment Date: 5 p.m. ET 8/5/24.

Docket Numbers: ER24-2519-000.

Applicants: PJM Interconnection, L.L.C.

Description: § 205(d) Rate Filing: Original GIA Service Agreement No. 7304, AG1-100 to be effective 6/14/2024.

Filed Date: 7/15/24.

Accession Number: 20240715-5058.

Comment Date: 5 p.m. ET 8/5/24.

Docket Numbers: ER24-2520-000.

Applicants: Southwest Power Pool, Inc.

Description: § 205(d) Rate Filing: Revisions to Add the Multi-Day Economic Commitment Process to be effective 12/31/9998.

Filed Date: 7/15/24.

Accession Number: 20240715-5095.

Comment Date: 5 p.m. ET 8/5/24.

Docket Numbers: ER24-2521-000.

Applicants: PJM Interconnection, L.L.C.

Description: § 205(d) Rate Filing: Amended WMPA, Service Agreement No. 6062; AG1-253 to be effective 9/16/2024.

Filed Date: 7/15/24.

Accession Number: 20240715-5118.

Comment Date: 5 p.m. ET 8/5/24.

Docket Numbers: ER24-2522-000.

Applicants: Public Service Company of New Hampshire.

Description: § 205(d) Rate Filing: Wok, LLC Interconnection Study Agreement to be effective 7/16/2024.

Filed Date: 7/15/24.

Accession Number: 20240715-5123.

Comment Date: 5 p.m. ET 8/5/24.

Docket Numbers: ER24-2523-000.

Applicants: The Connecticut Light and Power Company.

Description: § 205(d) Rate Filing: Vineyard Northeast LLC Engineering Review Agreement to be effective 7/16/2024.

Filed Date: 7/15/24.

Accession Number: 20240715-5126.

Comment Date: 5 p.m. ET 8/5/24.

Docket Numbers: ER24-2524-000.

Applicants: Poblano Energy Storage, LLC.

Description: Baseline eTariff Filing: Application for Market Based Rate Authority to be effective 7/16/2024.

Filed Date: 7/15/24.

Accession Number: 20240715-5167.

Comment Date: 5 p.m. ET 8/5/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 15, 2024.
Debbie-Anne A. Reese,
Acting Secretary.

[FR Doc. 2024-15993 Filed 7-19-24; 8:45 am]

BILLING CODE 6717-01-P